ENVIRONMENTAL PROTECTION AGENCY

40 CFR Part 52

[EPA-R04-OAR-2013-0738; FRL-9911-97-Region-4]

Approval and Promulgation of Implementation Plans; State of Tennessee; Knoxville; Fine Particulate Matter 2008 Base Year Emissions Inventory

AGENCY: Environmental Protection Agency (EPA).

ACTION: Direct final rule.

SUMMARY: The Environmental Protection Agency (EPA) is taking direct final action to approve the 2006 24-hour fine particulate matter (PM2.5) 2008 base year emissions inventory portion of the State Implementation Plan (SIP) revision submitted by the State of Tennessee through the Tennessee Department of Environment and Conservation (TDEC) on October 18, 2013. The emissions inventory is part of Tennessee's October 18, 2013, attainment demonstration SIP revision that was submitted to meet Clean Air Act (CAA or Act) requirements related to the Knoxville nonattainment area for the 2006 24-hour PM2.5 national ambient air quality standards (NAAQS), hereinafter referred to as “the Knoxville Area” or “Area.” The Knoxville Area is comprised of Anderson, Blount, Knox, and Loudon Counties in their entireties and a portion of Roane County that includes the Tennessee Valley Authority's Kingston Fossil Plant.

DATES: This direct final rule is effective on August 11, 2014 without further notice, unless EPA receives relevant adverse comment by July 10, 2014. If EPA receives such comment, EPA will publish a timely withdrawal in the Federal Register informing the public that this rule will not take effect.

ADDRESSES: Submit your comments, identified by Docket ID No. EPA-R04-OAR-2013-0738, by one of the following methods:

1. www.regulations.gov: Follow the on-line instructions for submitting comments.

2. Email: R4-RDS@epa.gov.

3. Fax: (404) 562-9019.

4. Mail: “EPA-R04-OAR-2013-0738,” Regulatory Development Section, Air Planning Branch, Air, Pesticides and Toxics Management Division, U.S. Environmental Protection Agency, Region 4, 61 Forsyth Street SW., Atlanta, Georgia 30303-8960.

5. Hand Delivery or Courier: Lynorae Benjamin, Chief, Regulatory Development Section, Air Planning Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 a.m. to 4:30 p.m., excluding Federal holidays.

Instructions: Direct your comments to Docket ID No. EPA-R04-OAR-2013-0738. EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Regulatory Development Section, Air Planning Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 a.m. to 4:30 p.m., excluding Federal holidays.

FOR FURTHER INFORMATION CONTACT: Joydeb Majumder, Regulatory Development Section, Air Planning Branch, Air, Pesticides and Toxics Management Division, U.S. Environmental Protection Agency, Region 4, 61 Forsyth Street SW., Atlanta, Georgia 30303-8960. The telephone number is (404) 562-9121. Mr. Majumder can be reached via electronic mail at Majumder.joydeb@epa.gov.

SUPPLEMENTARY INFORMATION:

I. Background

On October 17, 2006, (71 FR 61144), EPA established the 24-hour PM2.5 NAAQS at 35.0 micrograms per cubic meter. On November 13, 2009 (74 FR 58688), EPA published its air quality designations and classifications for the 2006 24-hour PM2.5 NAAQS based upon air quality monitoring data for calendar years 2006-2008. These designations became effective on December 14, 2009. The Knoxville Area was designated nonattainment for the 2006 24-hour PM2.5 NAAQS.

Designation of an area as nonattainment starts the process for a state to develop and submit to EPA a SIP revision under title I, part D of the CAA. This SIP revision must include, among other elements, a demonstration of how the NAAQS will be attained in the nonattainment area as expeditiously as practicable, but no later than the date required by the CAA. On June 6, 2012 (77 FR 33360), EPA proposed that the Knoxville Area had attained the 2006 24-hour PM2.5NAAQS. The proposed determination of attainment was based upon quality-assured and certified ambient air monitoring data for the 2009-2011 time period. EPA published the final determination of attainment on August 2, 2012 (77 FR 45954).¹ In accordance with the final determination of attainment, the requirements for the Knoxville Area to submit an attainment demonstration and associated reasonably available control measures (RACM), a reasonable further progress (RFP) plan, contingency measures, and other SIP revisions related to attainment of the standard are suspended, so long as the Area continues to attain the 2006 24-hour PM2.5 NAAQS.

¹ EPA's August 2, 2012, final rulemaking also finalized the determination of attaining data for the 1997 annual PM2.5 NAAQS for the Knoxville Area. EPA published approval of the 1997 annual PM2.5 NAAQS base year emissions inventory for the Knoxville Area on August 21, 2012 (77 FR 50378).

The determination of attainment, however, does not suspend the emissions inventory requirement found in the CAA section 172(c)(3). On October 18, 2013, Tennessee submitted a 2008 base year emissions inventory for the 2006 PM2.5 24-hour NAAQS in the Knoxville Area.

II. Analysis of the State's Submittal

As discussed above, section 172(c)(3) of the CAA requires nonattainment areas to submit a comprehensive, accurate, and current inventory of actual emissions from all sources of the relevant pollutant or pollutants in such areas. Tennessee selected 2008 as the base year for the emissions inventory per 40 CFR 51.1008(b) because, at the time that the State submitted its October 18, 2013, SIP revision, it was the most recent calendar year for which the State had developed a comprehensive emissions inventory to meet the federal National Emissions Inventory requirements. The emissions inventory contained in TDEC's SIP revision covers the general source categories of point sources, non-road mobile sources, area sources, and on-road mobile sources of direct and precursor emissions of PM2.5. The precursor emissions included in the Knoxville Area emissions inventory include ammonia (NH3), nitrogen oxides (NOX), sulfur dioxide (SO2), and volatile organic compounds (VOCs). A detailed discussion of the emissions inventory development can be found in Appendix A of the Tennessee submittal found in the docket of today's rulemaking. The table below provides a summary of the annual 2008 emissions of NH3, NOX, VOCs, SO2, and direct PM2.5 included in the Tennessee submittal.

2008 Annual Emissions for the Knoxville Area
[Tons per year]
County | NOX | SO2 | PM2.5 | VOC | NH3
Point Sources
Anderson | 9,561.1 | 30,338.3 | 444.0 | 227.8 | 1.2
Blount | 409.0 | 3,862.8 | 679.4 | 1,891.1 |
Knox | 1,988.7 | 466.1 | 144.8 | 551.2 | 0.1
Loudon | 910.4 | 2,329.6 | 368.8 | 875.3 | 2.6
Roane* | 7,927.2 | 50,616.2 | 842.0 | 152.1 | 18.8
Non-Road Sources
Anderson | 866.2 | 24.8 | 52.5 | 786.4 | 0.6
Blount | 911.0 | 46.4 | 78.1 | 1,187.8 | 0.7
Knox | 2,252.7 | 43.1 | 212.6 | 2,444.7 | 2.7
Loudon | 510.1 | 18.1 | 40.8 | 809.6 | 0.5
Roane* | 6.5 | 0.2 | 0.4 | 10.4 | 0.0
Area Sources
Anderson | 735.3 | 64.8 | 522.4 | 1,331.9 | 102.9
Blount | 919.8 | 1,984.7 | 718.9 | 1,890.9 | 319.4
Knox | 1,027.4 | 42.4 | 1,285.0 | 3,887.9 | 303.9
Loudon | 413.5 | 361.3 | 344.7 | 686.6 | 281.8
Roane* | 4.6 | 0.2 | 2.8 | 6.7 | 1.1
On-Road Sources
Anderson | 2,353.5 | 41.9 | 87.7 | 886.7 | 36.7
Blount | 2,340.1 | 33.3 | 82.5 | 1,255.5 | 48.1
Knox | 13,178.5 | 67.4 | 408.1 | 6,178.3 | 234.7
Loudon | 2,979.1 | 62.3 | 121.7 | 784.0 | 34.9
Roane* | 30.7 | 0.6 | 1.2 | 10.8 | 0.4
* Nonattainment portion of Roane County only.

Tennessee developed the 2008 emissions inventory for the Knoxville Area by incorporating data from multiple sources. States were required to develop and submit to EPA a triennial emissions inventory according to the Consolidated Emissions Reporting Rule for all source categories (i.e., point, non-road mobile, area, and on-road mobile). This inventory often forms the basis of data that are updated with more recent information and data that also are used in the attainment demonstration modeling inventory. Such was the case in the development of the 2008 base-year emissions inventory that was submitted in TDEC's SIP revision for the Knoxville Area. The 2008 base-year emissions for the 2008 inventory included here were developed in a number of ways. Some of the information was developed at the local and state level. Some emissions data were developed by EPA as described in EPA's 2008 National Emissions Inventory, Version 2, Technical Support Document, June 2012, Draft documentation. Some data sets are a hybrid of the two—where local inputs are provided to EPA to generate emissions. Tennessee's emissions inventory data were developed according to the most recent EPA emissions inventory guidance available at the time that Tennessee submitted the October 18, 2013, SIP revision.

EPA has reviewed the 2008 base year emissions inventory for the Knoxville Area in Tennessee's October 18, 2013, SIP revision and determined that the process used to develop this inventory was consistent with the CAA, implementing regulations, and EPA guidance for emissions inventories. EPA has therefore determined that this emissions inventory is adequate for the purposes of meeting the emissions inventory requirement in section 172(c)(3).

III. Final Action

EPA is taking direct final action to approve the 2008 base year emissions inventory portion of the attainment demonstration SIP revision for the Knoxville Area submitted by the State of Tennessee on October 18, 2013. EPA determined that this action is consistent with section 110 and 172(c)(3) of the CAA.

EPA is publishing this rule without prior proposal because the Agency views this as a non-controversial revision and anticipates no adverse comments. However, in the proposed rules section of this Federal Register publication, EPA is publishing a separate document that will serve as the proposal to approve the SIP revision should relevant adverse comment be filed. This rule will be effective on August 11, 2014 without further notice unless the Agency receives relevant adverse comment by July 10, 2014. If EPA receives such comments, EPA will publish a document withdrawing the final rule and informing the public that the rule will not take effect. EPA will address all relevant adverse comment received during the comment period in a subsequent final rule based on the proposed rule. EPA will not institute a second comment period on this action. Any parties interested in commenting must do so by July 10, 2014. If no such comments are received, this rule will be effective on August 11, 2014 and no further action will be taken on the proposed rule.

IV. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 11, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. See section 307(b)(2).

List of Subjects in 40 CFR Part 52

Environmental protection, Air pollution control, Incorporation by reference, Intergovernmental relations, Nitrogen dioxide, Particulate matter, Reporting and recordkeeping requirements, Sulfur oxides.

Dated: May 22, 2014.
Heather McTeer Toney,
Regional Administrator, Region 4.

40 CFR part 52 is amended as follows:

PART 52—APPROVAL AND PROMULGATION OF IMPLEMENTATION PLANS

1. The authority citation for part 52 continues to read as follows:

Authority: 42 U.S.C. 7401 et seq.

Subpart RR—Tennessee

2. Section 52.2220(e) is amended by adding a new entry for “Knoxville; 2006 24-hour Fine Particulate Matter 2008 Base Year Emissions Inventory” at the end of the table to read as follows:

§ 52.2220 Identification of plan.

* * * * *

(e) * * *

EPA-Approved Tennessee Non-Regulatory Provisions
Name of non-regulatory SIP provision | Applicable geographic or nonattainment area | State effective date | EPA approval date | Explanation
* * * * * * *
Knoxville; 2006 24-hour Fine Particulate Matter 2008 Base Year Emissions Inventory | Anderson, Blount, Knox, and Loudon Counties, and the portion of Roane County that falls within the census block that includes the Tennessee Valley Authority's Kingston Fossil Plant | 10/9/2013 | 6/10/2014 [Insert citation of publication]

[FR Doc. 2014-13422 Filed 6-9-14; 8:45 am]

BILLING CODE 6560-50-P